DEPARTMENT OF COMMERCE

National Institute of Standards and Technology

Manufacturing Extension Partnership Advisory Board

AGENCY: National Institute of Standards and Technology, Commerce.

ACTION: Notice of open meeting.

SUMMARY: NIST announces that the Manufacturing Extension Partnership (MEP) Advisory Board, National Institute of Standards and Technology (NIST) will hold an open meeting on Monday, September 13, 2010 from 8 a.m. to 4:30 p.m.

DATES: The meeting will convene September 13, 2010 at 8 a.m. and will adjourn at 4:30 p.m. on September 13, 2010.

ADDRESSES: The meeting will be held at Grand Hyatt Denver, 1750 Welton Street, Denver, Colorado 80202. Anyone wishing to attend this meeting should submit name, e-mail address and phone number to Susan Hayduk (susan.hayduk@nist.gov or 301-975-5614) no later than September 7, 2010.

FOR FURTHER INFORMATION CONTACT: Karen Lellock, Manufacturing Extension Partnership, National Institute of Standards and Technology, 100 Bureau Drive, Stop 4800, Gaithersburg, Maryland 20899-4800, telephone number (301) 975-4269.

SUPPLEMENTARY INFORMATION: This meeting is being held in conjunction with the Quarterly Update Meeting for the MEP system. The MEP Advisory Board is composed of 10 members, appointed by the Director of NIST, who were selected for their expertise in the area of industrial extension and their work on behalf of smaller manufacturers. MEP is a unique program consisting of centers across the United States and Puerto Rico, with partnerships at the State, Federal, and local levels. The Board works closely with MEP to provide input and advice on MEP's programs, plans, and policies. For this meeting, discussions will focus on an overview on (1) the current manufacturing climate and policy initiatives, (2) MEP program evaluation metrics and (3) a discussion of how to support small manufacturers' commercialization of new products and services. The agenda may change to accommodate other Board business.

Individuals and representatives of organizations who would like to offer comments and suggestions related to the MEP Advisory Board's business are invited to request a place on the agenda. Approximately fifteen minutes will be reserved for public comments at the beginning of the meeting. Speaking times will be assigned on a first-come, first-served basis. The amount of time per speaker will be determined by the number of requests received, but is likely to be no more than 3 to 5 minutes each. Questions from the public will not be considered during this period. Speakers who wish to expand upon their oral statements, those who had wished to speak but could not be accommodated on the agenda, and those who were unable to attend in person are invited to submit written statements to the MEP Advisory Board, National Institute of Standards and Technology, National Institute of Standards and Technology, 100 Bureau Drive, Stop 4800, Gaithersburg, Maryland 20899-4800, via fax at (301) 963-6556, or electronically by e-mail to karen.lellock@nist.gov.

Dated: August 10, 2010.
Harry Hertz,
Director, Baldrige National Quality Program.

[FR Doc. 2010-20312 Filed 8-16-10; 8:45 am]

BILLING CODE 3510-13-P